DEPARTMENT OF ENERGY

Federal Energy Regulatory Commission

Combined Notice of Filings

Take notice that the Commission has received the following Natural Gas Pipeline Rate and Refund Report filings:

Filings Instituting Proceedings

Docket Number: PR17-9-000.

Applicants: TPL SouthTex Transmission Company LP.

Description: Tariff filing per 284.123(b), (e)+(g): Filing Revised Operating Statement to be effective 11/1/2016; Filing Type: 1300.

Filed Date: 11/30/2016.

Accession Number: 201611305268.

Comments Due: 5 p.m. ET 12/21/16.

284.123(g) Protests Due: 5 p.m. ET 1/30/17.

Docket Number: PR17-10-000.

Applicants: Magic Valley Pipeline, L.P.

Description: Tariff filing per 284.123(e)/.224: Cancellation of Statement of Operating Conditions to be effective 12/1/2016; Filing Type: 800.

Filed Date: 11/30/2016.

Accession Number: 201611305277.

Comments/Protests Due: 5 p.m. ET 12/21/16.

Docket Number: PR17-11-000.

Applicants: Public Service Company of Colorado.

Description: Tariff filing per 284.123(b), (e)+(g): 20161201_SOR Two GRSA Rate Changes to be effective 11/1/2016; Filing Type: 1300.

Filed Date: 12/1/2016.

Accession Number: 201612015228.

Comments Due: 5 p.m. ET 12/22/16.

284.123(g) Protests Due: 5 p.m. ET 1/30/17.

Docket Number: PR17-12-000.

Applicants: Columbia Gas of Maryland, Inc.

Description: Tariff filing per 284.123(b), (e)/: CMD SOC Rates effective 10-27-2016 to be effective 10/27/2016; Filing Type: 980.

Filed Date: 12/1/2016.

Accession Number: 201612015299.

Comments/Protests Due: 5 p.m. ET 12/22/16.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP16-137-009.

Applicants: Tallgrass Interstate Gas Transmission, L.

Description: Compliance filing Rate Case Settlement RP16-137 to be effective 5/1/2016.

Filed Date: 12/5/16.

Accession Number: 20161205-5437.

Comments Due: 5 p.m. ET 12/19/16.

Docket Numbers: RP17-33-001.

Applicants: Equitrans, L.P.

Description: Compliance filing Equitrans' October 2016 Clean-Up Compliance Filing to be effective 11/17/2016.

Filed Date: 12/6/16.

Accession Number: 20161206-5121.

Comments Due: 5 p.m. ET 12/19/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 6, 2016.
Nathaniel J. Davis, Sr.,
Deputy Secretary.

[FR Doc. 2016-29788 Filed 12-12-16; 8:45 am]

BILLING CODE 6717-01-P